DEPARTMENT OF TRANSPORTATION

Office of the Secretary

Aviation Proceedings, Agreements Filed During the Week Ending January 11, 2002

The following Agreements were filed with the Department of Transportation under the provisions of 49 U.S.C. sections 412 and 414. Answers may be filed within 21 days after the filing of the application.

Docket Number: OST-2002-11287.

Date Filed: January 8, 2002.

Parties: Members of the International Air Transport Association.

Subject:

PTC23 EUR-SASC 0084 dated 11 December 2001

Europe-South Asian Subcontinent Resolutions r1-r14

Minutes—PTC23 EUR-SASC 0085 dated 14 December 2001

Tables—PTC23 EUR-SASC FARES 0031

dated 14 December 2001

Intended effective date: 1 April 2002.

Docket Number: OST-2002-11290.

Date Filed: January 9, 2002.

Parties: Members of the International Air Transport Association.

Subject:

PSC/Reso/112 dated 19 December 2001

Book of Finally Adopted Resolutions & RPs r1-40

Minutes—PSC/MINS/004 dated 19 December 2001

Intended effective date: 1 June 2002.

Cynthia L. Hatten,
Federal Register Liaison.

[FR Doc. 02-2041 Filed 1-25-02; 8:45 am]

BILLING CODE 4910-62-P